DEPARTMENT OF LABOR

Office of Disability Employment Policy

Advisory Committee on Increasing Competitive Integrated Employment for Individuals With Disabilities; Notice of Meeting

The Advisory Committee on Increasing Competitive Integrated Employment for Individuals with Disabilities (the Committee) was mandated by section 609 of the Rehabilitation Act of 1973, as amended by section 461 of the Workforce Innovation and Opportunity Act (WIOA). The Secretary of Labor established the Committee on September 15, 2014 in accordance with the provisions of the Federal Advisory Committee Act (FACA), as amended, 5 U.S.C. App. 2. The purpose of the Committee is to study and prepare findings, conclusions and recommendations for Congress and the Secretary of Labor on (1) ways to increase employment opportunities for individuals with intellectual or developmental disabilities or other individuals with significant disabilities in competitive, integrated employment; (2) the use of the certificate program carried out under section 14(c) of the Fair Labor Standards Act (FLSA) of 1938 (29 U.S.C. 214(c)); and (3) ways to improve oversight of the use of such certificates.

The Committee is required to meet no less than eight times. It is also required to submit an interim report to the Secretary of Labor; the Senate Committee on Health, Education, Labor and Pensions; and the House Committee on Education and the Workforce within one year of the Committee's establishment or by September 15, 2015. A final report must be submitted to the same entities no later than two years from the Committee establishment date. The Committee terminates one day after the submission of the final report.

The next meeting of the Committee will be open to the public and take place by Webinar on Monday, August 10, 2015. The meeting will take place from 1:00 p.m. to 4:00 p.m., Eastern Daylight Time.

On August 10, 2015, the Committee will discuss the draft of the interim report, and will vote on whether to approve the interim report.

Members of the public wishing to participate in the Webinar must register in advance of the meeting, by Friday, July 31, using the following link: http://bitly.com/ACICIEID2.

Organizations or members of the public wishing to submit a written statement may do so by submitting five copies on or before July 31, 2015, to Mr. David Berthiaume, Advisory Committee on Increasing Competitive Integrated Employment for Individuals with Disabilities, U.S. Department of Labor, Suite S-1303, 200 Constitution Avenue NW., Washington, DC 20210. Statements also may be submitted as email attachments to IntegratedCompetitiveEmployment@dol.gov. Please ensure that any written submission is in an accessible format or the submission will be returned. Further, it is requested that statements not be included in the body of an email. Statements deemed relevant by the Committee and received on or before July 31, 2015, will be included in the record of the meeting. Do not include any personally identifiable information (such as name, address, or other contact information) or confidential business information that you do not want publicly disclosed.

Signed at Washington, DC, this day 20th of July 2015.
Jennifer Sheehy,
Acting Assistant Secretary, Office of Disability Employment Policy.

[FR Doc. 2015-18224 Filed 7-23-15; 8:45 am]

BILLING CODE 4510-23-P